DEPARTMENT OF THE INTERIOR

Bureau of Land Management

[OR-936-1430-ET; HAG-06-0096; WAOR-11331]

Notice of Proposed Withdrawal Extension and Opportunity for Public Meeting; Washington

AGENCY: Bureau of Land Management, Interior.

ACTION: Notice.

SUMMARY: The Secretary of the Interior proposes to extend on behalf of the Bureau of Land Management, the duration of Public Land Order (PLO) No. 6631 for an additional 20 year period. PLO No. 6631 withdrew 24.65 acres of public land in Okanogon County, Washington, from settlement, sale, location or entry under the general land laws, including the United States mining laws, to protect the natural and recreational values, and the investment in Federal funds at the Split Rock Recreation Area. This notice also gives an opportunity to comment on the proposed action and to request a public meeting.

DATES: Comments and requests for a public meeting must be received by August 8, 2006.

ADDRESSES: Comments and meeting requests should be sent to the Oregon/Washington State Director, BLM, P.O. Box 2965, Portland, Oregon 97208-2965.

FOR FURTHER INFORMATION CONTACT: William Schurger, Wenatchee Field Office, 509-665-2116, or, Charles R. Roy, BLM Oregon/Washington State Office, 503-808-6189.

SUPPLEMENTARY INFORMATION: The withdrawal created by PLO No. 6631 (51 FR 43003) will expire on November 27, 2006, unless extended. The Bureau of Land Management has filed an application to extend Public Land Order No. 6631 which withdrew the following described public land from settlement, sale, location and entry under the general land laws, including the United States mining laws, subject to valid existing rights, to protect the Split Rock Recreation Site:

Willamette Meridian

Split Rock Recreation Site

T. 39 N., R.26 E.,

Sec. 18, lot 7.

The area described contains 24.65 acres in Okanogan County.

The BLM petition/application has been approved by the Assistant Secretary of the Interior. Therefore, it constitutes a withdrawal proposal of the Secretary of the Interior (43 CFR 2310.1-3(e)).

The use of a right-of-way, interagency agreement, or cooperative agreement would not adequately constrain non-discretionary uses and would not provide adequate protection of the Federal investment in the improvements located on the land.

There are no suitable alternative sites with equal or greater benefit to the government.

No additional water rights will be needed to fulfill the purpose of the requested withdrawal.

The preliminary mineral potential evaluation found the above described lands to be non-mineral in character.

The purpose of the proposed withdrawal extension is to protect the natural, and recreation values, and the investment of Federal funds at the Split Rock Recreation Area.

For a period of 90 days from the date of publication of this notice, all persons who wish to submit comments, suggestions, or objections in connection with the proposed withdrawal extension may present their views in writing to the State Director at the address indicated above. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal extension. All interested parties who desire a public meeting for the purpose of being heard on the proposed withdrawal must submit a written request to the State Director at the address indicated above within 90 days from the publication of this notice. Upon determination by the authorized officer that a public meeting will be held, a notice of the time and place will be published in the Federal Register at least 30 days before the scheduled date of the meeting.

The withdrawal extension application will be processed in accordance with the regulations set forth in 43 CFR 2310.4.

(Authority: 43 CFR 2310.3-1)

Dated: May 2, 2006.
Michael L. Barnes,
Acting Chief, Branch of Lands and Mineral Resources.

[FR Doc. E6-7116 Filed 5-9-06; 8:45 am]

BILLING CODE 4310-33-P